DEPARTMENT OF COMMERCE

National Oceanic and Atmospheric Administration

[RTID 0648-XC434]

Mid-Atlantic Fishery Management Council (MAFMC); Public Meeting

AGENCY: National Marine Fisheries Service (NMFS), National Oceanic and Atmospheric Administration (NOAA), Commerce.

ACTION: Notice; public meeting.

SUMMARY: The Mid-Atlantic Fishery Management Council's (MAFMC's) Summer Flounder, Scup, and Black Sea Bass Monitoring Committee (MC) will hold a public meeting.

DATES: The meeting will be held on Wednesday, October 26, 2022 from 9 a.m. to 1 p.m. EDT. For agenda details, see SUPPLEMENTARY INFORMATION.

ADDRESSES: The meeting will be held via webinar. Connection information will be posted to the calendar at www.mafmc.org prior to the meeting.

Council address: Mid-Atlantic Fishery Management Council, 800 N State Street, Suite 201, Dover, DE 19901; telephone: (302) 674-2331; www.mafmc.org.

FOR FURTHER INFORMATION CONTACT: Christopher M. Moore, Ph.D., Executive Director, Mid-Atlantic Fishery Management Council, telephone: (302) 526-5255.

SUPPLEMENTARY INFORMATION: The Summer Flounder, Scup, and Black Sea Bass MC will meet to discuss considerations for developing 2023 recreational management measures for all three species. These discussions will inform additional analysis that will be conducted prior to another meeting of the MC in November. During this first meeting, the MC will review: (1) the Recreational Harvest Control Rule Percent Change Process approved by the Council in June 2022, (2) the results of the recently completed Summer Flounder Management Strategy Evaluation which explored strategies to reduce recreational discards, and (3) two recreational harvest estimation models that could be used to inform development of 2023 management measures. The MC will discuss the implications of these issues for development of 2023 recreational management measures, which will be further discussed at a subsequent MC meeting in November 2022.

Special Accommodations

The meeting is physically accessible to people with disabilities. Requests for sign language interpretation or other auxiliary aids should be directed to Shelley Spedden, (302) 526-5251 at least 5 days prior to the meeting date.

Authority: 16 U.S.C. 1801 et seq.

Dated: September 30, 2022.
Rey Israel Marquez,
Acting Deputy Director, Office of Sustainable Fisheries, National Marine Fisheries Service.

[FR Doc. 2022-21643 Filed 10-4-22; 8:45 am]

BILLING CODE 3510-22-P